FEDERAL COMMUNICATIONS COMMISSION

47 CFR Parts 5, 25, and 97

[IB Docket No. 22-271; IB Docket No. 18-313; DA 24-412; FR ID 219983]

Space Innovation; Mitigation of Orbital Debris in the New Space Age

AGENCY: Federal Communications Commission

ACTION: Proposed rule.

SUMMARY: In this document, the Space Bureau of the Federal Communications Commission (Commission) seeks to refresh the record concerning the rules proposed in a 2020 Further Notice of Proposed Rulemaking (FNPRM) adopted in the Mitigation of Orbital Debris in the New Space Age rulemaking that sought comment on additional amendments to the Commission's rules related to satellite orbital debris mitigation.

DATES: Comments are due June 27, 2024. Reply comments are due July 12, 2024.

ADDRESSES: You may submit comments, identified by IB Docket No. 22-271 and IB Docket No. 18-313, by any of the following methods:

Federal Communications Commission's website: https://apps.fcc.gov/ecfs/. Follow the instructions for submitting comments.

People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document. To request materials in accessible formats for people with disabilities, send an email to FCC504@fcc.gov or call the Consumer & Governmental Affairs Bureau at 202-418-0530 (voice), 202-418-0432 (TTY).

FOR FURTHER INFORMATION CONTACT: Alexandra Horn, Space Bureau, Satellite Programs and Policy Division, 202-418-1376, alexandra.horn@fcc.gov.

SUPPLEMENTARY INFORMATION: This is a summary of the Commission's document, DA 24-412, released May 2, 2024, by the Space Bureau. The full text of the document is available at https://www.fcc.gov/document/space-bureau-seeks-refresh-record-orbital-debris-proposed-rules.

Comment Filing Requirements

Interested parties may file comments and reply comments on or before the dates indicated in the DATES section above. Comments may be filed using the Commission's Electronic Comment Filing System (ECFS).

• Electronic Filers. Comments may be filed electronically using the internet by accessing the ECFS, http://apps.fcc.gov/ecfs.

• Paper Filers. Parties who choose to file by paper must file an original and one copy of each filing. Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701. U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

• Persons with Disabilities. To request materials in accessible formats for people with disabilities (braille, large print, electronic files, audio format), send an email to fcc504@fcc.gov or call the Consumer & Governmental Affairs Bureau at 202-418-0530 (voice) or 202-418-0432 (TTY).

Ex Parte Presentations

The Commission will treat this proceeding as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Paperwork Reduction Act

This document does not contain proposed new or modified information collection requirements subject to the Paperwork Reduction Act of 1995 (PRA), Public Law 104-13, beyond those already proposed in the FNPRM. Therefore, it does not contain any new or modified information collection burden for small business concerns with fewer than 25 employees, pursuant to the Small Business Paperwork Relief Act of 2002, Public Law 107-198,see44 U.S.C. 3506(c)(4), beyond those already proposed in the FNPRM.

Regulatory Flexibility Analysis

The FNPRM included an Initial Regulatory Flexibility Analysis (“IRFA”) pursuant to 5 U.S.C. 603, exploring the potential impact on small entities of the Commission's proposals. The Commission invites parties to file supplemental comments on the IRFA in light of the request to refresh the record.

Providing Accountability Through Transparency Act

The Providing Accountability Through Transparency Act, Public Law 118-9, requires each agency, in providing notice of a rulemaking, to post online a brief plain-language summary of the proposed rule. The required summary of the document is available at https://www.fcc.gov/proposed-rulemakings.

Synopsis

In the document, the Space Bureau seeks to refresh the record on rule changes pertaining to orbital debris mitigation previously proposed by the Commission. The Commission continues to seek to improve and clarify its rules taking into account the Commission's experience gained in the satellite licensing process, improvements in mitigation guidelines and practices, and in light of various market developments. The Commission sought comment in a 2020 FNPRM on various proposals for amending the Commission's orbital debris mitigation rules (85 FR 52455, Aug. 25, 2020). The comment period closed over three years ago in 2020. To ensure that the Commission has the benefit of current information, including any developments relating to these issues since the release of the underlying FNPRM, the Commission invites interested parties to update the record as discussed in the document.

Background. In 2020, the Commission adopted a Report and Order (2020 Order) comprehensively updating its rules on orbital debris mitigation (85 FR 52422, Aug. 25, 2020). At the same time, the Commission adopted the FNPRM which sought comment on additional rule amendments and proposals related to the probability of accidental explosions, collision risk for multi-satellite systems, maneuverability requirements, and casualty risk, among other issues. In the 2020 Order, the Commission discussed the pace at which the industry is growing, noting that it expected that the regulation of orbital debris would be an iterative process as new research becomes available and new policies are developed based on experience and the evolving commercial space landscape.

Since the Commission last sought comment on its orbital debris mitigation rules, NASA and other standards-setting bodies have made a number of technical and policy updates to their orbital debris mitigation standards and guidance documents, and industry has gained substantial experience in this area, potentially leading to the development or refinement of new industry standards and practices in the future. In addition, in order to maintain U.S. leadership in the space economy, the Commission has opened a new docket for Space Innovation, IB Docket 22-271, recognizing that the new space age needs new rules, including for orbital debris mitigation, that reflect the expanding proliferation of satellites and innovations in the space industry. Finally, the Space Bureau's own experience in satellite licensing and addressing associated orbital debris concerns has also advanced and parties have provided additional views in specific licensing proceedings on approaches to debris mitigation, particularly for large constellations.

Based on these considerations, the document provides an opportunity for additional comments in order to ensure an up-to-date record.

Request for Additional Comment. Accordingly, the Space Bureau invites stakeholders to update the record after reviewing the specific proposals, underlying analysis, and questions contained in the FNPRM, as well as the existing record in this proceeding. In particular, the FNPRM presented a number of questions and proposals regarding the debris mitigation practices for constellations, including specific considerations related to the total probability of collisions with large objects.

In this context, the Commission sought comment on whether it should analyze collision risks based on the entire system (system-wide, or in the aggregate) or on individual satellites (per-satellite) within a multi-satellite non-geostationary orbit (NGSO) system. If the Commission were to opt for a system-wide approach, it sought comment on the process through which such collision risks should be considered and what factors would be relevant in performing such an analysis. The Commission noted that, if it adopted a system-wide safe harbor approach, systems that are able to demonstrate that they meet a system-wide collision probability metric (or another suitable risk indicator) would be considered as adequately addressing this aspect of debris mitigation, but systems that exceed the threshold would be subject to further review. The Commission sought comment on using the U.S. Orbital Debris Mitigation Standard Practices' (ODMSP) 0.001 probability of collision metric as a threshold or safe harbor as a means of identifying systems that may need further review. The Commission sought comment on whether a safe harbor approach like the one described above or a bright-line rule would be preferable in this context and asked for specific metrics or thresholds that would be appropriate for each scenario.

The Commission also identified several factors that could be relevant in establishing a safe harbor or bright-line rule, the maneuvering capabilities and reliability of the satellite(s), orbital lifetime, the number of satellites in the system (possibly including constellation replenishment rate and replacement satellites over some specific time period), and the size of individual satellites. The Commission sought comment on if these factors were relevant for consideration in this regard, how these factors should be evaluated, and whether there were any more factors that should be considered. As it pertains to large constellations, the Commission asked for input on whether it should make a bright-line distinction between large constellations and smaller systems in terms of the applicable metrics for collision risk assessment, or should it attempt to specify a scalable metric for both types of systems.

The Space Bureau seeks to refresh the record on these points. In particular, in several ex parte presentations, commenters addressed a possible metric of 100 “object-years” for assessing the risks that may arise if satellites fail to complete planned disposal. “Object-years” refers to the number of years each failed satellite would remain in orbit, summed across any other failed satellites that were part of the satellite system. The Space Bureau seeks comment on this and other approaches for addressing the reliability of post mission disposal, especially for constellations. Is an object-years metric suitable for this type of analysis, and if so, what threshold should be applied? The Space Bureau has used a 100 object-years metric in some licenses as a trigger for cases in which disposal failures would warrant additional Commission review of the execution of debris mitigation measures, and it seeks comment on whether this approach should be utilized more or less widely, and in which types of cases. Are there alternative approaches for identifying which systems may pose more collision risk than others? The Space Bureau asks for comment on such approaches, as well as any potential alternative metrics, methods for risk analysis, or implementation strategies for managing these collision risks, especially as it pertains to larger systems. Additionally, it seeks comment on appropriate actions should an operator be granted a license and then exceed a 100 object-year threshold, or any other metric that may be adopted. For example, should the operator be required to cease satellite deployment until the causes of the disposal failure have been identified and addressed sufficiently? If a cause and solution have been identified and successfully implemented, should the count of object years be re-set by removing object-years for those satellites from the operator's total object years? Are there other reporting conditions that could be used to address collision risks?

The Space Bureau recognizes that many factors, including orbital altitude and maneuvering capabilities, may impact collision risk analyses. In the FNPRM, the Commission was specifically interested in understanding the role of maneuvering capabilities in mitigating collision risk and the extent to which their reliability should be factored into collision risk assessments. The Commission sought comment on how to evaluate the likelihood of individual satellite maneuvering failures within a multi-satellite system. Additionally, the Commission requested input on how to assess the collision risk associated with failed satellites, including what the assumed location of the maneuvering failure should be (i.e., in the deployment orbit, the worst-case collision risk orbit, a combination of both, or a range of orbits representing the expected range and duration of satellite operations), and if there are any methods by which the Commission could apply historical data concerning the typical point in a satellite mission where failures occur in order to refine the analysis. The FNPRM requested comment on this approach and on other alternatives for assessing an expected failure rate on a more detailed basis. The Space Bureau now requests additional comment on these issues, especially how they relate to mitigating collision risks with large objects.

In the event a safe harbor approach is adopted, the FNPRM sought comment on the review process for systems that did not meet the established safe harbor criteria. The Commission invited comment on options such as allowing applicants to demonstrate a lower actual failure rate for their maneuvering capabilities than the assumed rate used in the safe harbor assessment. For larger systems with multiple deployments, the Commission also asked commenters to provide feedback on the possibility of implementing a license condition requiring the applicant to provide additional demonstrations if the actual failure rate for the initial deployments is substantially higher than the expected failure rate expressed in its application.

For NGSO systems that could not meet the safe harbor, if adopted, the FNPRM also sought comment on other aspects of a more detailed review process, such as asking operators to provide additional detail on alternative satellite designs that were considered during development or additional measures that will be taken to reduce the total collision risk. To this end, the Commission sought input on what additional measures may correlate with lower risk and if there were specific measures that can be specified with a goal of minimizing the need for a case-by-case approach.

The Space Bureau encourages interested parties to submit new or additional relevant information related to these and other questions laid out in the FNPRM, as well as information about the present state of the orbital debris environment and the satellite industry at large, including the types of mission profiles or additional considerations that may have arisen with more prominence since the FNPRM was first adopted. The Space Bureau recognizes that the satellite industry is rapidly evolving, and that issues or concerns may have arisen that were not expressly considered at the time the FNPRM was adopted, or that stakeholders now feel have otherwise rendered some of the initial considerations and proposals in the FNPRM obsolete or infeasible. Accordingly, the Space Bureau invites interested parties to provide additional specific recommendations or alternative proposals, supported by relevant experience and source material that may not have been available prior to the release of the document, as it pertains to the issues raised here and presented in the FNPRM.

Federal Communications Commission.
Troy Tanner,
Deputy Chief, Space Bureau.

[FR Doc. 2024-11169 Filed 5-24-24; 8:45 am]

BILLING CODE 6712-01-P